OFFICE OF NATIONAL DRUG CONTROL POLICY

Designation of ONDCP SES Performance Review Board Members

AGENCY: Office of National Drug Control Policy.

ACTION: Notice of Designation of ONDCP SES Performance Review Board.

Headings: Designation Pursuant of ONDCP SES Performance Review Board Pursuant to 5 CFR 4 30.310.

SUMMARY: The Director of the Office of National Drug Control Policy has appointed Patrick M. Ward, Robert Denniston, Michele Marx, and Jeffrey Teitz as members of the ONDCP SES Performance Review Board (PRB).

FOR FURTHER INFORMATION CONTACT: Please direct any questions to Briggitte LaFontant, Assistant for Personnel, Office of National Drug Control Policy, Executive Office of the President, Washington, DC 20502; (202) 395-6695.

Daniel R. Petersen,
Deputy General Counsel.

[FR Doc. 2011-20422 Filed 8-10-11; 8:45 am]

BILLING CODE 3180-W1-P